SOCIAL SECURITY ADMINISTRATION

[Docket No. SSA 2012-0021]

Privacy Act of 1974, as Amended; Computer Matching Program (SSA/Office of Child Support Enforcement (OCSE))—Match Number 1306

AGENCY: Social Security Administration (SSA).

ACTION: Notice of a renewal of an existing computer-matching program that will expire on September 30, 2012.

SUMMARY: In accordance with the provisions of the Privacy Act, as amended, this notice announces a renewal of an existing computer-matching program that we are currently conducting with OCSE.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869, or writing to the Executive Director, Office of Privacy and Disclosure, Office of the General Counsel, 617 Altmeyer Building, 6401 Security Boulevard, Baltimore, MD 21235-6401. All comments received will be available for public inspection at this address.

FOR FURTHER INFORMATION CONTACT: The Executive Director, Office of Privacy and Disclosure, Office of the General Counsel, as shown above.

SUPPLEMENTARY INFORMATION:

A. General

The Computer Matching and Privacy Protection Act of 1988 (Public Law (Pub. L.) 100-503), amended the Privacy Act (5 U.S.C. 552a) by describing the conditions under which computer matching involving the Federal government could be performed, and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards of the participating Federal agencies;

(3) Publish notice of the computer-matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Dawn S. Wiggins,
Acting Executive Director, Office of Privacy and Disclosure, Office of the General Counsel.

Notice of Computer Matching Program, SSA With the Office of Child Support Enforcement (OCSE)

A. Participating Agencies

SSA and OCSE.

B. Purpose of the Matching Program

The purpose of this matching program is for the Department of Health and Human Services, Administration for Children and Families, Office of Child Support Enforcement (OCSE) to provide us with quarterly wage (QW) and unemployment insurance (UI) information from the National Directory of New Hires (NDNH) to allow us to determine eligibility of applicants for Extra Help (low-income subsidy assistance) under the Medicare Prescription Drug, Improvement, and Modernization Act of 2003 (Public Law 108-173). This Agreement also governs the use, treatment, and safeguarding of the information exchanged. OCSE is the “source agency” and we are the “recipient agency,” as defined by the Privacy Act. 5 U.S.C. 552a(a)(9) and (11).

This Agreement assists us (1) in determining eligibility of applicants for Extra Help; (2) in re-determining eligibility of existing Extra Help beneficiaries during periodic screening; and (3) in administering the Extra Help program.

C. Authority for Conducting the Matching Program

The legal authority for disclosures under this Agreement are the Social Security Act (Act) and the Privacy Act of 1974, as amended. Section 453(j)(4) of the Act provides that OCSE shall provide the Commissioner of Social Security with all information in the NDNH. 42 U.S.C. 653(j)(4). We have authority to use data to determine entitlement and eligibility for the programs we administer pursuant to sections 453(j)(4), 1631(f), and 1860D-14(a)(3) of the Act. 42 U.S.C. 653(j)(4), 1386(f), and 1395w-114. Disclosures under this Agreement shall be made in accordance with 5 U.S.C. 552a(b)(3), and in compliance with the matching procedures in 5 U.S.C. 552a(o), (p), and (r).

Section 1860D-14(a)(3)(B) of the Act provides that “[t]he determination of whether a part D eligible individual residing in a State is a subsidy eligible individual * * * shall be determined under the State plan under title XIX for the State under section 1935(a) or by the Commissioner of Social Security.” 42 U.S.C. 1395w-114(a)(3)(B).

D. Categories of Records and Persons Covered by the Matching Program

OCSE and us published notice of the relevant Systems of Records (SORs) in the Federal Register.

We have independent authority to collect this information via sections 202 through 205, 223, 226, 228, 1611, 1631, 1818, 1836, 1839, 1840, and 1860D-1-1860D-15 of the Act (42 U.S.C. 402 through 405, 423, 426, 428, 1382, 1383, 1395i-2, 1395o, 1395r-1, 1395s, and 1395w-101-1395w-115). We collect and maintain this information in the Medicare Database (MDB) SORs, No. 60-0321, published at 69 FR 77816 (December 28, 2004) and 71 FR 42159-42164 (July 25, 2006). The MDB contains information related to Medicare Part A, Part B, Medicare Advantage Part C, and Medicare Part D.

OCSE will match our information in the MDB against the NDNH. The NDNH contains new hire, QW, and UI information furnished by state and Federal agencies and is maintained by OCSE in its system of records “OCSE National Directory of New Hires” (NDNH), No. 09-80-0381, established by publication at 76 FR 560 (January 5, 2011). Routine use #9 of the SOR authorizes disclosure of NDNH information to SSA.

We will provide OCSE the following data elements electronically in the finder file:

• Client's Own Social Security Number (COSSN), (SSN) and

• Name.

OCSE will provide us with the following data elements electronically from the NDNH:

a. Quarterly Wage File:

• QW record identifier,

• For employees:

(1) Name (first, middle, last),

(2) Address(es),

(3) Wage amount, and

(4) Reporting period.

• For employers of individuals in the QW file of the NDNH:

(1) Name,

(2) Federal (or State, if no Federal) Employer Identification Number (EIN),

(3) Employer Federal Information Processing Standards (FIPS) code (if present), and

(4) Address(es).

b. Unemployment Insurance File:

• UI record identifier,

• Name (first, middle, last),

• Address,

• UI benefit amount, and

• Reporting period.

Data Elements we update in the OCSE Financial Items (OCSEFITM) table, if there is a match:

• QW record identifier,

• For employees:

(1) Employee's SSN,

(2) Employee's wage amount, and

(3) Reporting period.

• For employers of individuals:

(1) Federal (or State, if no Federal) EIN,

(2) UI record identifier,

(3) Claimant SSN,

(4) UI benefit amount,

(5) Reporting period, and

(6) Employer's name.

E. Inclusive Dates of the Matching Program

The effective date of this matching program is October 1, 2012; provided that the following notice periods have lapsed: 30 days after publication of this notice in the Federal Register and 40 days after notice of the matching program is sent to Congress and OMB. The matching program will continue for 18 months from the effective date and may be extended for an additional 12 months thereafter, if certain conditions are met.

[FR Doc. 2012-20204 Filed 8-16-12; 8:45 am]

BILLING CODE 4191-02-P